DEPARTMENT OF LABOR

Employment and Training Administration

[TA-W-62,357; TA-W-62,357A; TA-W-62,357B; TA-W-62,357C; TA-W-62,357D; TA-W-62,357E; TA-W-62,357F; TA-W-62,357G; TA-W-62,357H; TA-W-62,357I; TA-W-62,357J; TA-W-62,357K; TA-W-62,357L; TA-W-62,357M; TA-W-62,357N; TA-W-62,357O; TA-W-62,357P; TA-W-62,357Q; TA-W-62,357R; TA-W-62,357S; TA-W-62,357T; TA-W-62,357U; TA-W-62,357V; TA-W-62,357W; TA-W-62,357X; TA-W-62,357Y; TA-W-62,357Z; TA-W-62,357AA; TA-W-62,357BB; TA-W-62,357CC]

Westpoint Home, Inc., Stores Division, Valley, Alabama; Westpoint Home, Inc., Stores Division, Albertville, Minnesota; Westpoint Home, Inc., Stores Division, Allen, Texas; Westpoint Home, Inc., Stores Division, Birch Run, Michigan; Westpoint Home, Inc., Stores Division, Birmingham, Alabama; Westpoint Home, Inc., Stores Division, Boaz, Alabama; Westpoint Home, Inc., Stores Division, Burlington, North Carolina; Westpoint Home, Inc., Stores Division, Cabazon, California; Westpoint Home, Inc., Stores Division, Clinton, Connecticut; Westpoint Home, Inc., Stores Division, Columbus, Georgia; Westpoint Home, Inc., Stores Division, Commerce, Georgia; Westpoint Home, Inc., Stores Division, Dalton, Georgia; Westpoint Home, Inc., Stores Division, Dawsonville, Georgia; Westpoint Home, Inc., Stores Division, Destin, Florida; Westpoint Home, Inc., Stores Division, Edinburgh, Indiana; Westpoint Home, Inc., Stores Division, Ellenton, Florida; Westpoint Home, Inc., Stores Division, Fairburn, Georgia; Westpoint Home, Inc., Stores Division, Foley, Alabama; Westpoint Home, Inc., Stores Division, Howell, Michigan; Westpoint Home, Inc., Stores Division, Lamarque, Texas; Westpoint Home, Inc., Stores Division, Lumberton, North Carolina; Westpoint Home, Inc., Stores Division, New Braunfels, Texas; Westpoint Home, Inc., Stores Division, Park City, Utah; Westpoint Home, Inc., Stores Division, Pigeon Forge, Tenessee; Westpoint Home, Inc., Stores Division, San Marcos, Texas; Westpoint Home, Inc., Stores Division, Sarasota, Florida; Westpoint Home, Inc., Stores Division, St. Augustine, Florida; Westpoint Home, Inc., Stores Division, Valdosta, Georgia; Westpoint Home, Inc., Stores Division, Williamsburg, Va; Westpoint Home, Inc., Stores Division, Wrentham, Massachusetts; Notice of Negative Determination Regarding Application for Reconsideration

By application dated December 17, 2007, the company official requested administrative reconsideration of the Department's negative determination regarding eligibility to apply for Trade Adjustment Assistance (TAA), applicable to workers and former workers of the subject firm. The denial notice was signed on October 29, 2007 and published in the Federal Register on December 11, 2007 (72 FR 70346).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The negative TAA determination issued by the Department for workers of WestPoint Home, Inc., Stores Division, Valley, Alabama (TA-W-62,357), WestPoint Home, Inc., Stores Division, Albertville, Minnesota (TA-W-62,357A), WestPoint Home, Inc., Stores Division, Allen, Texas (TA-W-62,357B), WestPoint Home, Inc., Stores Division, Birch Run, Michigan (TA-W-62,357C), WestPoint Home, Inc., Stores Division, Birmingham, Alabama (TA-W-62,357D), WestPoint Home, Inc., Stores Division, Boaz, Alabama (TA-W-62,357E), WestPoint Home, Inc., Stores Division, Burlington, North Carolina (TA-W-62,357F), WestPoint Home, Inc., Stores Division, Cabazon, California (TA-W-62,357G), WestPoint Home, Inc., Stores Division, Clinton, Connecticut (TA-W-62,357H), WestPoint Home, Inc., Stores Division, Columbus, Georgia (TA-W-62,357I), WestPoint Home, Inc., Stores Division, Commerce, Georgia (TA-W-62,357J), WestPoint Home, Inc., Stores Division, Dalton, Georgia (TA-W-63,257K), WestPoint Home, Inc., Stores Division, Dawsonville, Georgia (TA-W-62,357L), WestPoint Home, Inc., Stores Division, Destin, Florida (TA-W-62,357M), WestPoint Home, Inc., Stores Division, Edinburgh, Indiana (TA-W-62,357N), WestPoint Home, Inc., Stores Division, Ellenton, Florida (TA-W-62,357O), WestPoint Home, Inc., Stores Division, Fairburn, Georgia (TA-W-62,357P), WestPoint Home, Inc., Stores Division, Foley, Alabama (TA-W-62,357Q), WestPoint Home, Inc., Stores Division, Howell, Michigan (TA-W-62,357R), WestPoint Home, Inc., Stores Division, LaMarque, Texas (TA-W-62,357S), WestPoint Home, Inc., Stores Division, Lumberton, North Carolina (TA-W-62,357T), WestPoint Home, Inc., Stores Division, New Braunfels, Texas (TA-W-62,357U), WestPoint Home, Inc., Stores Division, Park City, Utah (TA-62,357V), WestPoint Home, Inc., Stores Division, Pigeon Forge, Tennessee (TA-W-62,357W), WestPoint Home, Inc., Stores Division, San Marcos, Texas (TA-W-62,357X), WestPoint Home, Inc., Stores Division, Sarasota, Florida (TA-W-62,357Y), WestPoint Home, Inc., Stores Division, St. Augustine, Florida (TA-W-62,357Z), WestPoint Home, Inc., Stores Division, Valdosta, Georgia (TA-W-62,357AA), WestPoint Home, Inc., Stores Division, Williamsburg, Virginia (TA-W-62,357BB), and WestPoint Home, Inc., Stores Division, Wrentham, Massachusetts (TA-W-62,357CC) was based on the finding that the worker group does not produce an article within the meaning of Section 222 of the Trade Act of 1974.

The petitioner states that the workers of the subject firm “assured the manufacturing facilities could continue operations with consistent running of shifts avoiding expenses involved with start up and shut down of the plants including costs incurred for unemployment”. The petitioner further states that the subject firm's primary business was selling WestPoint Home's home fashions bed and bath products manufactured in the United States. The petitioner alleges that because domestic manufacturing of fashion bed and bath products has been import impacted, workers of the subject firm who retail these products should be certified eligible for TAA.

The investigation revealed that workers of WestPoint Home, Inc., Stores Division are engaged in activities at retail factory outlet stores that include stocking merchandise, customer service, sales transactions, managerial staff, human resources and distribution services. These functions, as described above, are not considered production of an article within the meaning of section 222 of the Trade Act.

The petitioner also alleges that WestPoint Home began operations in Bahrain and Pakistan and that multiple production facilities of WestPoint Home have been certified eligible for TAA.

The allegation of a shift to another country might be relevant if it was determined that workers of the subject firm produced an article. However, the investigation determined that workers of WestPoint Home, Inc., Stores Division do not produce an article within the meaning of section 222 of the Trade Act of 1974.

Conclusion

After review of the application and investigative findings, I conclude that there has been no error or misinterpretation of the law or of the facts which would justify reconsideration of the Department of Labor's prior decision. Accordingly, the application is denied.

Signed in Washington, DC, this 3rd day of January 2008.
Elliott S. Kushner,
Certifying Officer, Division of Trade Adjustment Assistance.

[FR Doc. E8-261 Filed 1-9-08; 8:45 am]

BILLING CODE 4510-FN-P